DEPARTMENT OF THE INTERIOR

National Park Service

Environmental Statements; Notice of Intent: Virginia Key Beach Park, FL

AGENCY: National Park Service, Interior.

ACTION: Notice of Intent to prepare a Draft Environmental Impact Statement (EIS) on the Special Resource Study for Virginia Key Beach Park, Biscayne Bay, Florida.

SUMMARY: Pursuant to section 102(2)(C) of the National Environmental Policy Act of 1969, National Park Service (NPS) policy in Director's Order Number 2 (Park Planning) and Director's Order Number 12 (Conservation Planning, Environmental Impact Analysis, and Decision-making), the NPS will prepare an EIS for the Special Resource Study (SRS) for Virginia Key Beach Park. The authority for publishing this notice is contained in 40 CFR 1506.6.

The NPS will conduct public scoping meetings in the local area to receive input from interested parties on issues, concerns and suggestions believed to be relevant to the management of Virginia Key Beach Park and its potential inclusion as a unit of the National Park System. Of particular interest to the NPS are suggestions and ideas for managing cultural and natural resources, interpretation, and the visitor experience at Virginia Key Beach Park. The DEIS will formulate and evaluate environmental impacts associated with various types and levels of visitor use and resources management at the site.

DATES: The dates and times of the public scoping meetings will be published in local newspapers and on the SRS Web site for Virginia Key Beach Park. These dates and times may also be obtained by contacting the NPS Southeast Regional Office, Division of Planning and Compliance. Scoping suggestions will be accepted throughout the planning process but are urged to be submitted prior to July 1, 2005. The NPS anticipates that the Draft EIS will be available for public review by July 2006.

ADDRESSES: The locations of the public scoping meetings will be published in local newspapers and on the NPS Southeast Region planning Web site at http://www.nps.gov/sero/planning/vakey_srs/vakey_info.htm. These locations may also be obtained by contacting the NPS Southeast Regional Office, Division of Planning and Compliance.

Suggestions and ideas should be submitted in writing to the following address: Planning Team Leader, Virginia Key Beach Park Special Resource Study, NPS Southeast Regional Office, Division of Planning and Compliance, 100 Alabama Street, SW., 6th Floor, 1924 Building, Atlanta, Georgia 30303.

FOR FURTHER INFORMATION CONTACT: Amy Wirsching, Planning Team Leader, Virginia Key Beach Park Special Resource Study, (404) 562-3124, extension 607.

SUPPLEMENTARY INFORMATION: Issues currently being considered for the SRS/EIS include a determination of Virginia Key Beach Park's national significance and an assessment of the site's suitability and feasibility as a potential addition to the National Park System. The Draft EIS will identify cultural and natural resources of Virginia Key Beach Park and evaluate a range of potential management options that might adequately protect these resources.

Our practice is to make comments, including names and addresses of respondents, available for public review during regular business hours. If you wish for us to withhold your name and/or address, you must state this prominently at the beginning of your comment. The NPS will honor such requests to the extent allowed by applicable law. However, we will not consider anonymous comments. We will make all submissions from organizations or businesses, and from individuals identifying themselves as representatives or officials of organizations or businesses, available for public inspection in their entirety.

The responsible official for this EIS is Patricia A. Hooks, Regional Director, Southeast Region, National Park Service, 100 Alabama Street SW., 1924 Building, Atlanta, Georgia 30303.

Dated: March 21, 2005.
Patricia A. Hooks,
Regional Director, Southeast Region.

[FR Doc. 05-9569 Filed 5-12-05; 8:45 am]

BILLING CODE 4312-52-P